DEPARTMENT OF THE INTERIOR

Fish and Wildlife Service

[FWS-R9-IA-2010-N039]

[96300-1671-0000-P5]

Issuance of Permits

AGENCY: Fish and Wildlife Service, Interior.

ACTION: Notice of issuance of permits.

SUMMARY: We, the U.S. Fish and Wildlife Service (Service), have issued the following permits to conduct certain activities with endangered species and/or marine mammals.

ADDRESSES: Documents and other information submitted with these applications are available for review, subject to the requirements of the Privacy Act and Freedom of Information Act, by any party who submits a written request for a copy of such documents to: U.S. Fish and Wildlife Service, Division of Management Authority, 4401 North Fairfax Drive, Room 212, Arlington, Virginia 22203; fax 703-358-2281.

FOR FURTHER INFORMATION CONTACT: Division of Management Authority, telephone 703-358-2104.

SUPPLEMENTARY INFORMATION: Notice is hereby given that on the dates below, as authorized by the provisions of the Endangered Species Act of 1973, as amended (16 U.S.C. 1531 et seq.), and/or the Marine Mammal Protection Act of 1972, as amended (16 U.S.C. 1361 et seq.), the Fish and Wildlife Service issued the requested permits subject to certain conditions set forth therein. For each permit for an endangered species, the Service found that (1) the application was filed in good faith, (2) the granted permit would not operate to the disadvantage of the endangered species, and (3) the granted permit would be consistent with the purposes and policy set forth in Section 2 of the Endangered Species Act of 1973, as amended.

Endangered Species
Permit number | Applicant | Receipt of application Federal Register notice | Permit issuance date
060470 | Hollywood Animals, Inc. | 74 FR 47821; September 17, 2009 | January 15, 2010
060472 | Hollywood Animals, Inc. | 74 FR 47821; September 17, 2009 | January 15, 2010
060473 | Hollywood Animals, Inc. | 74 FR 47821; September 17, 2009 | January 15, 2010
192403 | Ricardo E. Longoria | 74 FR 58977; November 16, 2009 | December 28, 2009
220887 | Fort Worth Zoo | 74 FR 55062; October 26, 2009 | February 19, 2010
223400 | Earth Promise, doing business as Fossil Rim Wildlife Center | 74 FR 46222; September 8, 2009 | February 19, 2010
223447 | Zoological Society of San Diego | 75 FR 427; January 5. 2010 | February 26, 2010
230742 | The Phoenix Zoo | 74 FR 66675; December 16, 2009 | February 2, 2010
231594 | Seneca Park Zoo | 74 FR 58977; November 16, 2009 | February 2, 2010
232558 | William J. Butler | 74 FR 62586; November 30, 2009 | January 20, 2010
233622 | National Zoological Park | 74 FR 66675; December 16, 2009 | January 26, 2010
234069 | Carl Wagner | 74 FR 66675; December 16, 2009 | January 28, 2010
235302 | Jarrell W. Martin | 75 FR 427; January 5, 2010 | February 5, 2010

Marine Mammals
Permit number | Applicant | Receipt of application Federal Register notice | Permit issuance date
220509 | Dr. Beth Shapiro, Pennsylvania State University | 74 FR 62586, November 30, 2009 | March 5, 2010
225854 | Tom S. Smith, Brigham Young University | 74 FR 57702; November 9, 2009 | February 18, 2010
226641 | Natalija Lace, University of Southern Mississippi | 74 FR 57702; November 9, 2009 | January 26, 2010
229154 | John Downer Productions LTD | 74 FR 62586, November 30, 2009 | February 23, 2010
230255 | Pontecorvo Productions LLC | 74 FR 62586, November 30, 2009 | February 26, 2010

Dated: March 5, 2010
Brenda Tapia
Program Analyst, Branch of Permits, Division of Management Authority

[FR Doc. 2010-5510 Filed 3-15- 10; 8:45 am]

BILLING CODE 4310-55-S